FEDERAL COMMUNICATIONS COMMISSION

47 CFR Part 54

[WC Docket Nos. 11-42, 09-197, 10-90; FCC 16-38]

Lifeline and Link Up Reform and Modernization, Telecommunications Carriers Eligible for Universal Service Support, Connect America Fund

AGENCY: Federal Communications Commission.

ACTION: Final rule; correction.

SUMMARY: The Federal Communications Commission (FCC) published a summary of the Commission's Third Report and Order, 81 FR 33026, May 24, 2016 which fully modernizes the Lifeline program so it supports broadband services and obtains high value from the expenditure of Universal Service funds. This document clarifies the effective dates for the rules as they were published in the Federal Register, in order to promote consistency with the effective dates found in the Commission's Third Report and Order. Additionally, this document clarifies rules subject to certain effective dates in order to reflect implementation changes being made to the program.

DATES: Effective July 15, 2016, except for the corrections to §§ 54.202, 54.405, 54.408, and 54.410, which contain information collection requirements that are not effective until approved by the Office of Management and Budget. The Federal Communications Commission will publish a separate document announcing such approval and the relevant effective date(s).

FOR FURTHER INFORMATION CONTACT: Christian Hoefly, Wireline Competition Bureau, Telecommunications Access Policy Division at (202) 418-3607 or at christian.hoefly@fcc.gov.

SUPPLEMENTARY INFORMATION: In the Federal Register of May 24, 2016, in FR Doc. 2016-11284, on page 33088, the following corrections are made:

Ordering Clauses [Corrected]

1. In the first column, paragraph 432 is corrected to read, “It is further ordered, that pursuant to the authority contained in Sections 1 through 4, 201 through 205, 254, 303(r), and 403 of the Communications Act of 1934, as amended, 47 U.S.C. 151 through 154, 201 through 205, 254, 303(r), and 403, and Section 706 of the Telecommunications Act of 1996, 47 U.S.C. 1302, part 54 of the Commission's rules, 47 CFR part 54, is amended, and such rule amendments to Sections 54.201 and 54.423 shall be effective 30 days after publication in the Federal Register of this Third Report and Order.”

2. In the second column, paragraph 433, remove “Sections 54.202(a)(6), (d), and (e) and 54.205(c)” and add in their place “Sections 54.202(a)(6), (d), and (e), 54.205(c), and 54.400(l)”.

3. In the second column, paragraph 434, add “54.400(f), (j), (m) through (o),” after “54.101”.

§ 54.202 [Corrected]

4. On page 33089, in the second column, § 54.202 Additional requirements for Commission designation or eligible telecommunications carriers, in paragraph (d), in the second sentence, remove “should” and add in its place the word “shall”.

§ 54.405 [Corrected]

5. On page 33091, in the first column, § 54.405 Carrier obligation to offer Lifeline, in paragraph (e)(3) remove the words “assess or collect” and add in their place the words “assess and collect”.

§ 54.408 [Corrected]

6. On page 33092, in the third column, § 54.408 Minimum service standards, in paragraph (f)(1) remove the words “broadband provider” and add in their place the words “broadband Lifeline provider”.

7. On page 33092, in the third column, § 54.408 Minimum service standards, in paragraph (f)(2) remove the words “A provider” and add in their place the words “A Lifeline provider”.

8. On page 33092, in the third column, § 54.408 Minimum service standards, in paragraph (f)(3) remove the words “broadband provider” and add in their place the words “broadband Lifeline provider”.

§ 54.410 [Corrected]

9. On page 33093, in the second column, § 54.410 Subscriber eligibility determination and certification, in paragraph (b)(1)(ii), remove the words “by National Verifier.” and add in their place the words “by the National Verifier.”

10. On page 33094, in the first column, § 54.410 Subscriber eligibility determination and certification, in paragraph (f)(2)(iii), remove the words “the National Verifier, state Lifeline administrator, or state agency” and add in their place the words “the eligible telecommunications carrier”

11. On page 33094, in the first column, § 54.410 Subscriber eligibility determination and certification, in paragraph (f)(4), remove the words “re-certification or subscribers' Lifeline” and add in their place the words “re-certification of subscribers' Lifeline”

12. On page 33094, in the second column, § 54.410 Subscriber eligibility determination and certification, in paragraph (f)(5), remove the words “state agency's inability” and add in their place the words “state agency that it is unable”

Federal Communications Commission.
Marlene H. Dortch,
Secretary.

[FR Doc. 2016-15194 Filed 7-14-16; 8:45 am]

BILLING CODE 6712-01-P